NATIONAL SCIENCE FOUNDATION

Advisory Committee for Education and Human Resources; Notice of Meeting

In accordance with the Federal Advisory Committee Act (Pub.L. 92-463, as amended), the National Science Foundation announces the following meeting:

Name: Advisory Committee for Education and Human Resources (#1119).

Date & Time: November 8—8:30 am-6:30 pm; November 9—8:30 am-3:00 pm.

Place: National Science Foundation, 4201 Wilson Boulevard, Arlington, VA 22230.

Type of Meeting: Part Open; Closed November 9—12:00 Noon-12:30 pm; Discussion of Personnel Issues.

Contact Person: John B. Hunt, Senior Liaison, ACEHR, Directorate for Education and Human Resources, National Science Foundation, 4201 Wilson Boulevard, Room 805, Arlington, VA 22230, 703-292-8602.

Summary Minutes: May be obtained from contact person listed above.

Purpose of Meeting: To provide advice and recommendations concerning NSF support for Education and Human Resources.

Agenda: Review of FY2000 Programs and discussion of National Science Foundation niche in science, mathematics, and engineering technology education.

Reason for Closing: The information being discussed includes personnel issues involving specific individuals. These matters are exempt under 5 U.S.C. 552b(c)(6) of the Government in the Sunshine Act.

Dated: October 10, 2000.
Karen J. York,
Committee Management Officer, HRM.

[FR Doc. 00-26318 Filed 10-12-00; 8:45 am]

BILLING CODE 7555-01-M